DEPARTMENT OF HOUSING AND URBAN DEVELOPMENT

[Docket No. FR-7040-N-12]

60-Day Notice of Proposed Information Collection: Receivership, Troubled, Substandard, At-Risk Program; OMB Control No.: 2577-New Collection

AGENCY: Office of Assistant Secretary for Public and Indian Housing, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: January 31, 2022.

ADDRESSES: Interest persons are invited to submit comments regarding this proposal. Comments should refer to the proposal by name/or OMB Control number and should be sent to: Colette Pollard, Reports Management Officer, QDAM, Department of Housing and Urban Development, 451 7th Street SW, Room 4176, Washington, DC 20410-5000; telephone 202-402-5564 (this is not a toll-free number) or email Colette.Pollard@hud.gov for a copy of the proposed forms or other available information.

FOR FURTHER INFORMATION CONTACT: Dawn Smith, Office of Policy, Program and Legislative Initiatives, PIH, Department of Housing and Urban Development, 451 7th Street SW, Washington, DC 20410; telephone 202-402-6488. This is not a toll-free number.

SUPPLEMENTARY INFORMATION: This notice informs the public that HUD is seeking approval from OMB for the information collection described in Section A.

A. Overview of Information Collection

Title of Information Collection: Receivership, Troubled, Substandard, At-Risk Program.

OMB Control Number: 2577-New.

Type of Request: New collection.

Agency Form Numbers: Narrative, Post-award Reporting, HUD-50075.1

Description of the Need for the Information and Proposed Use: The Transportation, Housing and Urban Development and Related Agencies Appropriations Act of 2021, enacted on December 27, 2020, appropriated fifteen (15) million dollars for emergency grants to improve the asset management condition of housing owned by public housing authorities (PHA) in receivership, troubled, substandard, or at-risk statuses. From this appropriation, HUD has allocated fourteen million and five hundred thousand dollars (14.5) for this funding opportunity. To be eligible for this funding, a PHA must provide a narrative description of the physical needs and condition of the Asset Management Property (AMP), a plan with actions to address the issues at the AMP, and a projection of the impact of those actions on the AMP's performance (physical condition and occupancy). Post-award reporting requires PHAs awarded under this program to use Energy Performance Information Center (EPIC) to complete annual reports within 60 days of each annual anniversary of award. All other reporting (e.g., in financial systems) already required in the Capital Fund formula grant program or the Moving to Work program shall continue to apply.

Respondents: Public Housing Agencies.

Estimated Annual Reporting and Recordkeeping Burden: The estimated burden hours is 540 and the total annual cost is $21,774.

Information collection | Number of respondents | *Avg number of reponses per respondent | Total annual responses | Burden hours per response | Total hours | Hourly cost | Total annual cost
Narrative | 100 | 1 | 100 | 6 | 600 | $32.02 | $19,212
Post-award Reports | 10 | 1 | 10 | 8 | 80 | 32.02 | 2,562
Totals | 110 | 1 | 110 | varies | 540 | 32.02 | 21,774
* Avg number of responses per respondent = Total Annual Responses ÷ Number of Responses.

B. Solicitation of Public Comment

This notice is soliciting comments from members of the public and affected parties concerning the collection of information described in Section A on the following:

(1) Whether the proposed collection of information is necessary for the proper performance of the functions of the agency, including whether the information will have practical utility;

(2) The accuracy of the agency's estimate of burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Laura Miller-Pittman,
Chief, Office of Policy, Program and Legislative Initiatives.

[FR Doc. 2021-26076 Filed 11-29-21; 8:45 am]

BILLING CODE 4210-67-P